DEPARTMENT OF ENERGY

Federal Energy Regulatory Commission

Combined Notice of Filings #1

Take notice that the Commission received the following electric corporate filings:

Docket Numbers: EC15-34-000

Applicants: Bethel Wind Energy LLC, Elk Wind Energy LLC, BlackRock NTR Renewable Power Fund (Master), L.P.

Description: Application for Authorization under Section 203 of the Federal Power Act and Request for Waivers, Confidential Treatment, and Expedited Consideration of Bethel Wind Energy LLC, et al.

Filed Date: 11/17/14

Accession Number: 20141117-5275

Comments Due: 5 p.m. ET 12/8/14

Take notice that the Commission received the following electric rate filings:

Docket Numbers: ER13-94-004

Applicants: Avista Corporation

Description: Compliance filing per 35: Avista Corp OATT Order No. 1000 Compliance Filing to be effective 1/1/2015.

Filed Date: 11/17/14

Accession Number: 20141117-5218

Comments Due: 5 p.m. ET 12/8/14

Docket Numbers: ER13-96-005

Applicants: Black Hills Power, Inc.

Description: Compliance filing per 35: Order No. 1000 OATT Third Regional Compliance Filing to be effective 1/1/2015.

Filed Date: 11/17/14

Accession Number: 20141117-5260

Comments Due: 5 p.m. ET 12/8/14

Docket Numbers: ER13-99-003

Applicants: Puget Sound Energy, Inc.

Description: Compliance filing per 35: OATT Order No. 1000 Compliance Filing to be effective 1/1/2015.

Filed Date: 11/17/14

Accession Number: 20141117-5246

Comments Due: 5 p.m. ET 12/8/14

Docket Numbers: ER13-120-005

Applicants: Cheyenne Light, Fuel and Power Company

Description: Compliance filing per 35: Order No. 1000 OATT Third Regional Compliance Filing to be effective 1/1/2015.

Filed Date: 11/17/14

Accession Number: 20141117-5266

Comments Due: 5 p.m. ET 12/8/14

Docket Numbers: ER14-2372-001

Applicants: California Independent System Operator Corporation

Description: Compliance filing per 35: 2014-11-17 Petition for Limited Tariff Waiver to be effective N/A.

Filed Date: 11/17/14

Accession Number: 20141117-5269

Comments Due: 5 p.m. ET 11/21/14

Docket Numbers: ER15-420-000

Applicants: ITC Midwest LLC

Description: § 205(d) rate filing per 35.13(a)(2)(iii): Filing of a Joint Use Agreement to be effective 1/19/2015.

Filed Date: 11/17/14

Accession Number: 20141117-5214

Comments Due: 5 p.m. ET 12/8/14

Docket Numbers: ER15-421-000

Applicants: PJM Interconnection, L.L.C.

Description: § 205(d) rate filing per 35.13(a)(2)(iii): Service Agreement No. 3203; Queue No. W3-079 to be effective 10/27/2014.

Filed Date: 11/17/14

Accession Number: 20141117-5216

Comments Due: 5 p.m. ET 12/8/14

Docket Numbers: ER15-422-000

Applicants: Avista Corporation

Description: Compliance filing per 35: Avista Corp Order No. 1000 FERC Rate Schedule CG2 to be effective 1/1/201.

Filed Date: 11/17/14

Accession Number: 20141117-5219

Comments Due: 5 p.m. ET 12/8/14

Docket Numbers: ER15-423-000

Applicants: Nevada Power Company

Description: Compliance filing per 35: Rate Schedule No. 146 WestConnect Planning Participation Agreement Concurrence to be effective 12/31/9998.

Filed Date: 11/17/14

Accession Number: 20141117-5224

Comments Due: 5 p.m. ET 12/8/14

Docket Numbers: ER15-424-000

Applicants: Sierra Pacific Power Company

Description: Compliance filing per 35: Rate Schedule No. 67 WestConnect Planning Participation Agreement Concurrence to be effective 12/31/9998.

Filed Date: 11/17/14

Accession Number: 20141117-5225

Comments Due: 5 p.m. ET 12/8/14

Docket Numbers: ER15-425-000

Applicants: PPL Montour, LLC

Description: § 205(d) rate filing per 35.13(a)(2)(iii): Nov 2014 Market-Based Rate Tariff Revisions to be effective 11/13/2014.

Filed Date: 11/17/14

Accession Number: 20141117-5230

Comments Due: 5 p.m. ET 12/8/14

Docket Numbers: ER15-426-000

Applicants: El Paso Electric Company

Description: Compliance filing per 35: APS Rate Schedule No. 274, WestConnect Planning Participation Agreement to be effective 12/31/9998.

Filed Date: 11/17/14

Accession Number: 20141117-5238

Comments Due: 5 p.m. ET 12/8/14

Docket Numbers: ER15-427-000

Applicants: Pacific Gas and Electric Company

Description: § 205(d) rate filing per 35.13(a)(2)(iii): Revision to Twin Valley Hydroelectric SGIA—WDT Service Agreement No. 83 to be effective 1/19/2015.

Filed Date: 11/17/14

Accession Number: 20141117-5245

Comments Due: 5 p.m. ET 12/8/14

Docket Numbers: ER15-428-000

Applicants: Nevada Power Company

Description: Compliance filing per 35: Order No. 1000 OATT Third Regional Compliance filing to be effective 1/1/2015.

Filed Date: 11/17/14

Accession Number: 20141117-5247

Comments Due: 5 p.m. ET 12/8/14

Docket Numbers: ER15-429-000

Applicants: Puget Sound Energy, Inc.

Description: Compliance filing per 35: Columbia Grid Functional Agreement to be effective 1/1/2015.

Filed Date: 11/17/14

Accession Number: 20141117-5248

Comments Due: 5 p.m. ET 12/8/14

Docket Numbers: ER15-430-000

Applicants: Black Hills/Colorado Electric Utility Co

Description: Compliance filing per 35: WestConnect Planning Participation Agreement Concurrence Filing to be effective 12/31/9998.

Filed Date: 11/17/14

Accession Number: 20141117-5251

Comments Due: 5 p.m. ET 12/8/14

Docket Numbers: ER15-431-000

Applicants: Black Hills Power, Inc.

Description: Baseline eTariff Filing per 35.1: WestConnect Planning Participation Agreement Concurrence Filing to be effective 12/31/9998.

Filed Date: 11/17/14

Accession Number: 20141117-5259

Comments Due: 5 p.m. ET 12/8/14

Docket Numbers: ER15-432-000

Applicants: Cheyenne Light, Fuel and Power Company

Description: Baseline eTariff Filing per 35.1: WestConnect Planning Participation Agreement Concurrence Filing to be effective 12/31/9998.

Filed Date: 11/17/14

Accession Number: 20141117-5263

Comments Due: 5 p.m. ET 12/8/14

Docket Numbers: ER15-433-000

Applicants: Tucson Electric Power Company

Description: Compliance filing per 35: Certificate of Concurrence WestConnect Planning Participation Agreement to be effective 12/31/9998.

Filed Date: 11/17/14

Accession Number: 20141117-5265

Comments Due: 5 p.m. ET 12/8/14

Docket Numbers: ER15-434-000

Applicants: UNS Electric, Inc.

Description: Compliance filing per 35: Certificate of Concurrence WestConnect Planning Participation Agreement to be effective 12/31/9998.

Filed Date: 11/17/14

Accession Number: 20141117-5268

Comments Due: 5 p.m. ET 12/8/14

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2014.
Nathaniel J. Davis, Sr.,
Deputy Secretary.

[FR Doc. 2014-27904 Filed 11-24-14; 8:45 am]

BILLING CODE 6717-01-P